DEFENSE NUCLEAR FACILITIES SAFETY BOARD

Sunshine Act Notice

AGENCY: Defense Nuclear Facilities Safety Board.

ACTION: Notice of public business meeting.

SUMMARY: Pursuant to the provisions of the “Government in the Sunshine Act” (5 U.S.C. 552b), notice is hereby given of the Defense Nuclear Facilities Safety Board's (Board) public business meeting described below.

DATES: Time and Date of Meeting: 9 a.m.-12:15 p.m., November 10, 2015.

ADDRESSES: Place: Defense Nuclear Facilities Safety Board, 625 Indiana Avenue NW., Suite 352, Washington, DC 20004-2901.

FOR FURTHER INFORMATION CONTACT: Mark Welch, General Manager, Defense Nuclear Facilities Safety Board, 625 Indiana Avenue NW., Suite 700, Washington, DC 20004-2901, (800) 788-4016. This is a toll-free number.

SUPPLEMENTARY INFORMATION: Status: Open.

Matters to be Considered: This public business meeting will be conducted pursuant to the Government in the Sunshine Act, the Board's implementing regulations for the Government in the Sunshine Act, and the Board's Operating Procedures dated August 2015. The meeting will proceed in accordance with the previously approved business meeting agenda entitled “DNFSB Work Plans and Staffing Plan for Fiscal Year 2016.” The Chairman and the Board Members will provide opening remarks followed by presentations from the Office of the Technical Director (OTD) staff concerning an overview of technical staff work plan activities and crosscutting issues. The Board will then engage in discussions among themselves on crosscutting issues. OTD staff will then provide a presentation on technical staff work related to National Nuclear Security Administration (NNSA) and Department of Energy Environmental Management (EM) programs. The Board is expected to conduct discussions among themselves concerning NNSA and EM program issues and Board staff priorities. The Board will then receive comments from the public followed by Board Member remarks. The Chairman will then provide closing remarks.

The business meeting agenda is posted on the Board's public Web site. The public is invited to view this business meeting and provide comments. A transcript of the business meeting, along with a DVD video recording, will be made available by the Board for inspection and viewing by the public at the Board's Washington office. The Board specifically reserves its right to further schedule and otherwise regulate the course of the business meeting, to recess, reconvene, postpone, or adjourn the meeting, and otherwise exercise its rights under the Atomic Energy Act, the Government in the Sunshine Act and the Board's Operating Procedures.

Dated: October 9, 2015.
Joyce L. Connery,
Chairman.

[FR Doc. 2015-26376 Filed 10-14-15; 11:15 am]

BILLING CODE 3670-01-P